DEPARTMENT OF DEFENSE

Office of the Secretary

Defense Science Board

AGENCY: Office of the Secretary, Department of Defense.

ACTION: Notice of Cancellation of Advisory Committee Meeting.

SUMMARY: The Defense Science Board was scheduled to meet in closed session at the Pentagon, Arlington, VA, on January 26-27, 2000. However, due to severe weather conditions, the meeting was cancelled and has not been rescheduled. Notice of this meeting was published in the Federal Register on November 24, 1999 (Volume 64, Number 226, Page 66173).

Dated: February 2, 2000.
L.M. Bynum,
Alternate OSD Federal Register Liaison Officer, Department of Defense.

[FR Doc. 00-2816 Filed 2-7-00; 8:45 am]

BILLING CODE 5001-10-M